DEPARTMENT OF THE INTERIOR

Bureau of Land Management

[ES-030-1430-ET; MNES 17056]

Notice of Proposed Withdrawal Extension and Opportunity for Public Meeting; Minnesota

AGENCY: Bureau of Land Management, Interior.

ACTION: Notice of Proposed Withdrawal Extension and Opportunity for Public Meeting; Minnesota.

SUMMARY: The Bureau of Land Management (BLM) proposes to extend the duration of Public Land Order (PLO) No. 6630 for an additional 20-year period. PLO No. 6630 withdrew 49.26 acres of public lands comprised of 61 islands and one waterfront lot in St. Louis County, Minnesota from surface entry and transferred jurisdiction from the BLM to the National Park Service to be administered as part of the National Park System. This notice also gives an opportunity to comment on the proposed action and to request a public meeting.

DATES: Comments and public meeting requests must be received by November 30, 2006. Electronic format submittals will not be accepted.

ADDRESSES: Comments and meeting requests should be sent to the State Director, BLM-Eastern States, 7450 Boston Boulevard, Springfield, Virginia 22153.

FOR FURTHER INFORMATION CONTACT: Ida Doup, BLM-Eastern States, 703-440-1541 or at the address above.

SUPPLEMENTARY INFORMATION: The withdrawal created by PLO No. 6630 (51 FR 41627) will expire on November 17, 2006, unless extended. The National Park Service has filed an application to extend PLO No. 6630 for an additional 20-year term to allow continued management of the following described lands as part of the Voyageurs National Park:

Fourth Principal Meridian

T. 69 N., R. 19 W.,

Sec. 14, unsurveyed island in SE¼NE¼;

Sec. 18, Government lot 4;

Sec. 19, unsurveyed island in SW¼SE¼;

Sec. 20, unsurveyed island in NW¼SE¼;

Sec. 23, unsurveyed island in SE¼NW¼;

Sec. 27, unsurveyed island in NW¼SE¼;

Sec. 28, unsurveyed island in NE¼NW¼, unsurveyed island in SE¼NW¼;

Sec. 30, unsurveyed island in NW¼SE¼, unsurveyed island in SE¼NE¼;

Sec. 31, unsurveyed island in NW¼NW¼.

T. 70 N., R. 19 W.,

Sec. 28, 2 unsurveyed islands in NE¼NE¼,

Sec. 30, unsurveyed island in NW¼SE¼;

Sec. 33, unsurveyed island in NE¼NE¼;

Sec. 34, unsurveyed island in SW¼NW¼.

T. 69 N., R. 20 W.,

Sec. 12, unsurveyed island in SW¼SE¼;

Sec. 13, unsurveyed island in SW¼NE¼, unsurveyed island in SE¼NE¼;

Sec. 14, unsurveyed island in SE¼NE¼, unsurveyed island in NE¼SW¼, unsurveyed island in NW¼SW¼;

Sec. 15, unsurveyed island in SW¼SW¼;

Sec. 20, unsurveyed island in NE¼NE¼, unsurveyed island in SW¼NW¼, unsurveyed island in NW¼SW¼;

Sec. 22, unsurveyed island in SE¼NW¼, unsurveyed island in NW¼SW¼;

Sec. 23, 2 unsurveyed islands in SW¼SW¼;

Sec. 25, unsurveyed island in NE¼NE¼;

Sec. 26, unsurveyed island in SW¼NE¼, unsurveyed island in SE¼NW¼.

T. 70 N., R. 20 W.,

Sec. 34, unsurveyed island in NE¼SW¼;

Sec. 35, unsurveyed island in NW¼SE¼.

T. 69 N., R. 21 W.,

Sec. 3, 2 unsurveyed islands in NE¼NE¼, 2 unsurveyed islands in SW¼NW¼;

Sec. 4, unsurveyed island in NW¼SW¼;

Sec. 9, unsurveyed island in SW¼SW¼, unsurveyed island in NE¼SE¼;

Sec. 10, 2 unsurveyed islands in NE¼NW¼, unsurveyed island in SE¼NW¼, unsurveyed island in NE¼SW¼;

Sec. 12, unsurveyed island in NW¼SE¼;

Sec. 13, unsurveyed island in NE¼NE¼, unsurveyed island in NW¼SW¼;

Sec. 14, 2 unsurveyed islands in NW¼NE¼,

Sec. 21, unsurveyed island in NW¼NW¼;

Sec. 23, unsurveyed island in NW¼SE¼, unsurveyed island in SW¼SE¼;

Sec. 25, unsurveyed island in SW¼NE¼.

T. 70 N., R. 21 W.,

Sec. 28, unsurveyed island in SE¼SW¼;

Sec. 30, unsurveyed island in SW¼NE¼, unsurveyed island in SW¼SE¼;

Sec. 32, unsurveyed island in NW¼SW¼;

Sec. 33, unsurveyed island in SE¼NW¼, unsurveyed island in SW¼SE¼;

Sec. 34, unsurveyed island in SW¼NW¼.

The areas described aggregate 49.26 acres in St. Louis County.

The purpose of the proposed extension is to continue the withdrawal created by PLO No. 6630 for an additional 20-year term to allow the National Park Service to continue to administer the land as part of the Voyageurs National Park.

There are no suitable alternative sites since the lands described herein contain the natural resources and improvements of interest for protection.

No water rights will be needed to fulfill the purpose of the requested withdrawal. For a period of 90 days from the date of publication of this notice, all persons who wish to submit comments, suggestions, or objections in connection with the proposed withdrawal extension may present their views in writing to the State Director of the BLM-Eastern States at the address noted above.

Comments, including names and street addresses of respondents, will be available for public review at the BLM-Eastern States, 7450 Boston Boulevard, Springfield, Virginia 22153 during regular business hours 8 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed withdrawal extension must submit a written request to the State Director, BLM-Eastern States within 90 days from the date of publication of this notice. If the authorized officer determines that a public meeting will be held, a notice of the time and place will be published in the Federal Register at least 30 days before the scheduled date of the meeting.

This withdrawal extension proposal will be processed in accordance with the regulations set forth in 43 CFR 2310.4.

(Authority: 43 CFR 2310.3-1)

Dated: July 24, 2006.
Micheal D. Nedd,
State Director, Eastern States.

[FR Doc. E6-14560 Filed 8-31-06; 8:45 am]

BILLING CODE 4310-55-P